DEPARTMENT OF TRANSPORTATION

Federal Aviation Administration

Notice of Intent To Rule on Request To Release Airport Land at Deer Valley Airport, Phoenix, AZ

AGENCY: Federal Aviation Administration, Department of Transportation.

ACTION: Notice of Request to Release Airport Land.

SUMMARY: The Federal Aviation Administration (FAA) proposes to rule and invites public comment on the release from the conditions and restrictions contained in applicable grant agreements with the United States for approximately 417 square feet of unimproved land obligated for airport purposes at Deer Valley Airport, Phoenix, Arizona, and which is not needed for airport purposes. The released land will be used for a driveway and sidewalk as part of the street paving and storm drain improvement project by the city of Phoenix. The project will improve traffic safety in the neighborhood and will not impact airport operation. Upon the release of this airport land, the Aviation Department will receive the appraised fair market value for airport improvements.

DATES: Comments must be received on or before May 30, 2007.

ADDRESSES: Comments on this application may be mailed or delivered to the FAA at the following address: Federal Aviation Administration, Airports Division, Federal Register Comment, P.O. Box 92007, Los Angeles, CA 90009-2007. In addition, one copy of any comments submitted to the FAA must be mailed or delivered to Mr. Richard Russell, Project Manager, City of Phoenix, Aviation Department, Rental Car Center, 1805 East Sky Harbor South, Phoenix, Arizona 85034.

FOR FURTHER INFORMATION CONTACT: Ms. Kimchi Hoang, Airports Program Manager, Los Angeles Airports District Office, telephone (310) 725-3617, or fax (310) 725-6849. For airport-specific information regarding the release, contact Mr. Richard Russell, City of Phoenix, at above address or (602) 273-3454 or fax (602) 273-8879.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by the assurances in grant agreements.

The following is a brief overview of the request:

The City of Phoenix (City) requested a release from the conditions and restrictions in applicable grant agreements with the United States for approximately 417 square feet of unimproved City Aviation Department land, obligated for airport purposes, to sell to the City Streets Transportation Department, Phoenix, Arizona. The 417 square feet cannot be used for airport purposes and is not needed for future airport development. This land is located outside Phoenix Deer Valley Airport's western fence line on 19th Avenue north of Deer Valley Road and Pinnacle Peak Road in Phoenix, Arizona. The appraised fair market value of the parcel is $3,000 and the City Streets Transportation Department will transfer the fund of $3,000 to the Airport Aviation Department. The release will permit improvements for the traffic safety including road widening, grading, drainage, sidewalks and landscaping. The airport will use the proceeds for airport purposes.

Issued in Hawthorne, California, on April 10, 2007.
Brian Q. Armstrong,
Manager, Los Angeles Airports District Office, Western-Pacific Region.

[FR Doc. 07-2103 Filed 4-27-07; 8:45 am]

BILLING CODE 4910-13-M